DEPARTMENT OF COMMERCE

National Institute of Standards and Technology

National Institute of Standards and Technology Performance Review Board Membership

The National Institute of Standards and Technology Performance Review Board (NIST PRB) reviews performance appraisals, agreements, and recommended actions pertaining to employees in the Senior Executive Service and reviews performance-related pay increases for ST-3104 employees. The Board makes recommendations to the appropriate appointing authority concerning such matters so as to ensure the fair and equitable treatment of these individuals.

This notice lists the membership of the NIST PRB and supersedes the list published in Federal Register Vol. 72, No. 179, pages 52859-52860, on September 17, 2007.

Eric Amis (C) (alternate), Deputy Director, Materials Science and Engineering Laboratory, National Institute of Standards & Technology, Gaithersburg, MD 20899, Appointment Expires: 12/31/10.

W. Todd Grams (C) (alternate), Chief Financial Officer, National Institute of Standards & Technology, Gaithersburg, MD 20899, Appointment Expires: 12/31/10.

Stella Fiotes (C), Chief Facilities Management Officer, National Institute of Standards & Technology, Gaithersburg, MD 20899, Appointment Expires: 12/31/10.

James Olthoff (C), Deputy Director, Electronics and Electrical Engineering Laboratory, National Institute of Standards & Technology, Gaithersburg, MD 20899, Appointment Expires: 12/31/10.

Patricia Sefcik (C), Senior Director to the Deputy Assistant Secretary for Manufacturing, Manufacturing and Services, International Trade Administration, Washington, DC 20230, Appointment Expires: 12/31/10.

Sivaraj Shyam-Sunder (C) (alternate), Director, Building and Fire Research Laboratory, National Institute of Standards & Technology, Gaithersburg, MD 20899, Appointment Expires: 12/31/10.

Dated: August 19, 2008.
James M. Turner,
Deputy Director, National Institute of Standards and Technology Department of Commerce.

[FR Doc. E8-19556 Filed 8-21-08; 8:45 am]

BILLING CODE 3510-13-P